DEPARTMENT OF TRANSPORTATION

Federal Railroad Administration

Notice of the Extension of the Comment Period for the Draft Environmental Impact Report/Environmental Impact Statement for the California High-Speed Train Project Fresno to Bakersfield Section

AGENCY: Federal Railroad Administration (FRA), United States Department of Transportation (DOT).

ACTION: Notice.

SUMMARY: FRA is issuing this notice to advise the public that the comment period for the Draft Environmental Impact Report (EIR)/Environmental Impact Statement (EIS) that has been prepared for the California High-Speed Train (HST) Project Fresno to Bakersfield Section (Project) has been extended and shall now end on October 13, 2011. This decision was made by the Authority and FRA in response to requests for an extension of the comment period. FRA is the lead federal agency and the California High-Speed Rail Authority (Authority) is the lead state agency for the environmental review process.

The Authority plans to construct and operate a fully grade-separated, dedicated double-track, electric powered, passenger rail, high-speed railroad along a 114-mile corridor between Fresno and Bakersfield, CA. The Project includes stations in downtown Fresno and Bakersfield, and a possible Kings/Tulare Regional Station east of Hanford, CA. A heavy maintenance facility for assembly, testing, and commissioning of trains, train inspection and service, and train overhaul may be constructed in the Fresno to Bakersfield Section.

The Draft EIR/EIS presents the Project's purpose and need, identifies all reasonable alternatives including track alignments, stations, and heavy maintenance facilities as well as the no action alternative, describes the affected environment, analyzes the potential environmental impacts of all the reasonable alternatives and the no action alternative, and identifies appropriate mitigation measures to minimize the potential environmental impacts.

DATES: Written comments on the Draft EIR/EIS for the Fresno to Bakersfield Section should be provided to the Authority on or before October 13, 2011. Public hearings are scheduled on September 20, September 21, and September 22, 2011 in Fresno, CA, Hanford, CA, and Bakersfield, CA respectively at the times and dates listed in the ADDRESSES section below.

ADDRESSES: Written comments on the Draft EIR/EIS should be sent to the California High-Speed Rail Authority, Fresno to Bakersfield EIR/EIS Comments, 770 L Street, Suite 800, Sacramento, CA 95814, through the Authority's Web site at http://www.cahighspeedrail.ca.gov, or via e-mail with the subject line “Draft EIR/EIS” at Fresno_Bakersfield@hsr.ca.gov. Comments may also be provided orally or in writing at the public hearings scheduled at the following locations:

• Fresno, CA, Tuesday, September 20, 2011, 3 p.m. to 8 p.m., Fresno Convention Center, 848 M Street, Fresno, CA;

• Hanford, CA, Wednesday, September 21, 2011, 3 p.m. to 8 p.m., Civic Auditorium, 400 N. Douty Street, Hanford, CA; and

• Bakersfield, CA, Thursday, September 22, 2011, 3 p.m. to 8 p.m., Beale Memorial Library, 701 Truxton Avenue, Bakersfield, CA.

FOR FURTHER INFORMATION CONTACT: Mr. David Valenstein, Chief, Environment and Systems Planning Division, Office of Railroad Policy and Development, Federal Railroad Administration, U.S. Department of Transportation, 1200 New Jersey Avenue, SE., MS-20, Washington, DC 20590 (telephone: 202-493-6368), or Mr. Dan Leavitt, Deputy Director for Environmental Review and Planning, California High-Speed Rail Authority, 770 L Street, Ste. 800, Sacramento, CA 95814 (telephone: 916-324-1541).

SUPPLEMENTARY INFORMATION: Once completed, the California HST system will provide intercity, high-speed passenger rail service on more than 800 miles of tracks throughout California, connecting the major population centers of Sacramento, the San Francisco Bay Area, the Central Valley, Los Angeles, the Inland Empire, Orange County, and San Diego. It will use state-of-the-art, electrically powered, high-speed, steel-wheel-on-steel-rail technology, including contemporary safety, signaling, and automated train-control systems, with trains capable of operating up to 220 miles per hour (mph) over a fully grade-separated, dedicated double track alignment.

The FRA and Authority certified a Statewide Program EIR/EIS (Tier 1) for the California HST system in November 2005 as the first phase of a tiered environmental review process for the California HST system. In 2008, the FRA and Authority certified another program EIR/EIS for the Bay Area to Central Valley portion of the HST system. The Fresno to Bakersfield Section Draft EIR/EIS (Tier 2) analyzes the environmental impacts and benefits of implementing the high-speed train in the more geographically limited area between Fresno and Bakersfield, and is based on more detailed project planning and engineering. This Draft EIR/EIS analysis builds on the earlier decisions and program EIR/EISs, and provides more site-specific and detailed analysis.

The Authority plans to complete the California HST System in two phases. Phase 1 will connect San Francisco to Los Angeles/Anaheim via the Pacheco Pass and the Central Valley with a mandated express travel time of 2 hours and 40 minutes or less. Phase 2 will connect the Central Valley to the state's capital, Sacramento, and will extend the system from Los Angeles, CA to San Diego, CA. This Project is for one section in Phase 1 and is receiving funding from FRA for design and environmental review as well as for the construction of an initial Section in the Central Valley.

The American Recovery and Reinvestment Act of 2009 (Recovery Act), enacted February 17, 2009, contained $8 billion to fund high-speed intercity passenger rail (HSIPR) projects. In response to the Recovery Act funding, FRA developed and began implementation of the HSIPR Program to fund projects to improve existing intercity passenger rail service and to develop new high speed intercity passenger rail corridors. FRA's HSIPR Program also received an additional $2.1 billion from the Transportation, Housing, and Urban Development and Related Agencies Appropriations Act of 2010. The California High-Speed Rail Authority applied for and was selected to receive over $3.5 billion in HSIPR funds from FRA to complete preliminary engineering and NEPA reviews and associated documentation for all seven sections comprising Phase 1 of the California HST System and to construct an initial Central Valley Section from Madera County to Bakersfield (Kern County) California. Completion of the environmental review process marked by issuance of a Record of Decision (ROD) by FRA is a prerequisite for any construction related federal funding or approvals from FRA.

The approximately 114-mile-long Fresno to Bakersfield Section is a critical Phase 1 link connecting Merced to Fresno and Bay Area HST Sections to the north and the Bakersfield to Palmdale and Palmdale to Los Angeles HST Sections to the south. The Fresno to Bakersfield Section includes HST stations in the cities of Fresno and Bakersfield, with a third potential station located in the vicinity of Hanford (Kings/Tulare Regional Station) that would serve the Hanford, Visalia, and Tulare area. The Fresno and Bakersfield stations are this Section's beginning and ending points, or project termini.

This Draft EIR/EIS has been prepared by the FRA and the Authority consistent with the provisions of Section 102(2)(c) of the National Environmental Policy Act (NEPA) of 1969 (42 U.S.C. 4321 et seq.), the Council on Environmental Quality (CEQ) regulations implementing NEPA (40 CFR parts 1500 et seq.), FRA's Procedures for Considering Environmental Impacts (64 FR 28545 (May 26, 1999)), the California Environmental Quality Act (CEQA) (Public Resources Code § 21000-21178), and CEQA Guidelines (California Code of Regulations Title 14, Chapter 3 § 15000-15387).

The Draft EIR/EIS is available online at FRA's Web site: http://www.fra.dot.gov; the Authority's Web site: http://www.cahighspeedrail.ca.gov. The Draft EIR/EIS is also available for viewing at the following locations near the planned rail system:

• Fresno County Public Library, Central Branch, Central Reference Department, 2420 Mariposa Street, Fresno, CA;

• Fresno County Public Library, Clovis Regional Library, 1155 Fifth Street, Clovis, CA;

• Fresno County Public Library, Laton Branch, 6313 DeWoody Street, Laton, CA;

• Kern County Library, Beale Memorial Library, 701 Truxtun Avenue, Bakersfield, CA;

• Kern County Library, Corcoran Branch, 1001 Chittenden Avenue, Corcoran, CA;

• Kern County Library, Delano Branch, 925 10th Avenue, Delano, CA;

• Kern County Library, Shafter Branch, 236 James Street, Shafter, CA;

• Kern County Library, Wasco Branch, 1102 7th Street, Wasco, CA;

• Kings County Library, Hanford Branch (Main Library), 401 N. Douty Street, Hanford, CA;

• Kings County Library, Lemoore Branch, 457 C Street, Lemoore, CA;

• Tulare County Library, Visalia Branch (Main Library), 200 West Oak Avenue, Visalia, CA; and

• Tulare Public Library, 475 North M Street, Tulare, CA.

Issued in Washington, DC, on August 31, 2011.
Paul Nissenbaum,
Director, Office of Passenger and Freight Programs.

[FR Doc. 2011-23015 Filed 9-7-11; 8:45 am]

BILLING CODE 4910-06-P